Proclamation 8887 of October 11, 2012

General Pulaski Memorial Day, 2012

By the President of the United States of America

A Proclamation

Two hundred and thirty-three years ago, a Polish-born patriot gave his life to advance the cause of American independence. As a leader in the Continental Army who fought shoulder-to-shoulder with men from Europe and America alike, Brigadier General Casimir Pulaski battled to extend the principles that were as dear to him as they are to us—liberty, equality, and justice for all. Today, we reflect on the proud legacy he left behind, and we celebrate the lasting ways Polish Americans have enriched our Nation.

In his native Poland, Casimir Pulaski strove to secure sovereignty for his country. Years of struggle came to an end when his confederation was overpowered, leaving him an exile to France. In Paris, General Pulaski met Benjamin Franklin, who directed him toward another fight for freedom taking place across the Atlantic.

When Franklin wrote to General George Washington to recommend Casimir Pulaski as a volunteer in the American cavalry, he noted that Pulaski “was renowned throughout Europe for the courage and bravery he displayed in defense of his country's freedom.” Though the soil he fought for was not his own, the founding ideals of our young Republic were ones General Pulaski shared with all who saw freedom's promise. For his heroic actions on battlefields that spanned from Brandywine to Charleston, Casimir Pulaski was promoted to the rank of Brigadier General and became known as the “Father of the American Cavalry.” Tragically, he did not live to see the success of the revolution he gave so much to advance. Today, we see the future he helped create: a free and independent United States standing proudly with its strong ally, a free and independent Poland.

On General Pulaski Memorial Day, we honor a hero who helped secure our country's fate when it was most fragile. As we recall his tremendous contributions, let us also pay tribute to the countless Polish Americans who followed his bold example. Generations have contributed mightily to building the country we know and love today, and they will continue to play an important role in carrying us toward a more perfect Union in the years to come.

NOW, THEREFORE, I, BARACK OBAMA, President of the United States of America, by virtue of the authority vested in me by the Constitution and the laws of the United States, do hereby proclaim October 11, 2012, as General Pulaski Memorial Day. I encourage all Americans to commemorate this occasion with appropriate programs and activities paying tribute to Casimir Pulaski and honoring all those who defend the freedom of our Nation.

IN WITNESS WHEREOF, I have hereunto set my hand this eleventh day of October, in the year of our Lord two thousand twelve, and of the Independence of the United States of America the two hundred and thirty-seventh.

[FR Doc. 2012-25611

Filed 10-15-12; 11:15 am]

Billing code 3295-F3